ENVIRONMENTAL PROTECTION AGENCY

[EPA-HQ-OPP-2020-0260; FRL-8118-02-OCSPP]

RIN 2070-ZA22

Pesticides; Final Guidance for Pesticide Registrants on the Lists of Pests of Significant Public Health Importance (Pesticide Registration Notice 2023-1)

AGENCY: Environmental Protection Agency (EPA).

ACTION: Notice of availability.

SUMMARY: The Environmental Protection Agency (EPA) is announcing the availability of a final Pesticide Registration Notice (PR Notice) entitled, “Lists of Pests of Significant Public Health Importance” and identified as PR Notice 2023-1. PR Notices are issued by the Office of Pesticide Programs (OPP) to inform pesticide registrants and other interested persons about important policies, procedures, and registration related decisions, and serve to provide guidance to pesticide registrants and OPP personnel. This PR Notice updates and replaces the PR Notice 2002-1, which identifies pests of significant public health importance. The Health and Human Services (HHS), United States Department of Agriculture (USDA), and the Environmental Protection Agency (EPA) determined that updating the lists to reflect the current public health situation were warranted because vector-borne diseases and related research has changed significantly since the original PR Notice was published almost 20 years ago. This update includes the addition or removal of pests, new impacts, renaming pests, or grouping pests of similar species.

DATES: PR Notice 2023-1 is effective March 31, 2023.

FOR FURTHER INFORMATION CONTACT: Susan Jennings, Immediate Office (7501M), Office of Pesticide Programs, Environmental Protection Agency, 1200 Pennsylvania Ave. NW, Washington, DC 20460-0001; telephone number: (706) 355-8574; email address: jennings.susan@epa.gov.

SUPPLEMENTARY INFORMATION:

I. General Information

A. Does this action apply to me?

This action is directed to the public in general, however, it may be of particular interest to those persons who are or may be required to conduct testing of chemical substances under the Federal Food, Drug, and Cosmetic Act (FFDCA), or Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. What is the Agency's authority for taking this action?

We are taking this action under FIFRA, 7 U.S.C. 136 et seq. FIFRA section 28(d) charges EPA with identifying “pests of significant public health importance.” FIFRA section 2(t) defines the term “pest” as meaning (1) any insect, rodent, nematode, fungus, weed, or (2) any other form of terrestrial or aquatic plant or animal life or virus, bacteria, or other micro-organism (except viruses, bacteria, or other micro-organism on or in living man or other living animals) which the Administrator declares to be a pest under FIFRA section 25(c)(1). EPA previously exercised FIFRA section 25(c)(1) authority to make pest declarations, by amending the regulatory definition of “pest” at 40 CFR 152.5. The intended changes to the lists of pests of significant public health importance are within the statutory and regulatory definitions.

C. How can I get copies of this document and other related information?

The docket for this action, identified by docket identification (ID) number EPA-HQ-OPP-2020-0260, is available through https://www.regulations.gov. Additional instructions on visiting the docket, along with more information about dockets generally, visit https://www.epa.gov/dockets.

II. What guidance does this PR Notice provide?

This final PR Notice 2023-1 updates and replaces PR Notice 2002-1, which identifies pests of significant public health importance. The lists were first published in 2002, fulfilling the requirement of FIFRA section 28(d) to identify pests of significant public health importance (see the original lists: https://www.epa.gov/sites/production/files/2014-04/documents/pr2002-1.pdf). EPA, HHS and USDA believe that pests, diseases, and control techniques have changed since 2002. The lists provide an interagency baseline for the federal government and the public to begin any discussions on government regulation and control of disease or vectors of disease agents. EPA uses the lists of pests of significant public health importance to develop and implement programs to improve and facilitate the safe and necessary use of chemical, biological and other methods to control pests of public health importance. When a pest is added to these lists, it reflects a determination that the pest is a pest of significant public health importance and the lists serve as a public reference to that effect. The publication of the updated lists does not affect the regulatory status of any registration or application for registration of any specific pesticide product, therefore, registrants do not need to take any action.

EPA announced the availability and sought public comments on a draft PR Notice (85 FR 70146, November 4, 2020 (FRL-10010-13)). EPA received 9 unique public comments that are discussed in a Response to Comments document, along with the Agency's responses. The Response to Comments document is available in the docket and is briefly summarized here. The comments covered a range of topics including general comments on the lists geographic scope or level of detail, whether there could be a regulatory impact from the lists (none is anticipated), or if products exempt from registration could be impacted. More specific comments were also submitted on the content of the lists, such as requests to add or remove species, formatting considerations, and the public health impacts of specific pests.

After considering the public comments, EPA is finalizing the PR Notice with the following modifications: Minor adjustments to the introductory language; adding several pests (especially in the vertebrate list); clarifying several of the public health impacts; and combining rows where pests or the public health impacts could be combined.

III. Do PR Notices impose binding requirements?

The PR Notice discussed in this document is intended to provide guidance to EPA personnel and decisionmakers and to pesticide registrants. While the requirements in the statutes and Agency regulations are binding on EPA and pesticide registrants, the PR Notice does not impose new binding requirements on either EPA or pesticide registrants, and EPA may depart from the guidance presented in the PR Notice where circumstances warrant and without prior notice. Likewise, pesticide registrants may assert that the guidance is not appropriate generally or not applicable to a specific pesticide or situation.

IV. Statutory and Executive Order Reviews

Additional information about these statutes and Executive Orders can be found at https://www.epa.gov/laws-regulations/laws-and-executive-orders.

A. Executive Order 12866: Regulatory Planning and Review and Executive Order 13563: Improving Regulation and Regulatory Review

This action is not a regulatory action under Executive Order 12866 (58 FR 51735; October 4, 1993) and was therefore not submitted to the Office of Management and Budget (OMB) for review under Executive Orders 12866 and 13563 (76 FR 3821, January 21, 2011).

B. Paperwork Reduction Act (PRA)

This guidance does not create any paperwork burdens that require additional approval by OMB under the PRA, 44 U.S.C. 3501 et seq. The information collection activities associated with pesticide registration are already approved by OMB under OMB Control No. 2070-0060, entitled “Application for New and Amended Pesticide Registration” (EPA ICR No. 0277.24).

Authority: 7 U.S.C. 136 et seq.

Dated: February 23, 2023.
Michal Freedhoff,
Assistant Administrator, Office of Chemical Safety and Pollution Prevention.

[FR Doc. 2023-04155 Filed 2-28-23; 8:45 am]

BILLING CODE 6560-50-P